DEPARTMENT OF THE INTERIOR

Bureau of Indian Affairs

[2231A2100DD/AAKC001030/A0A501010.999900]

Advisory Board of Exceptional Children

AGENCY: Bureau of Indian Affairs, Interior.

ACTION: Notice of meeting.

SUMMARY: The Bureau of Indian Education (BIE) is announcing that the Advisory Board for Exceptional Children will hold a two-day in-person and online meeting. The purpose of the meeting is to meet the mandates of the Individuals with Disabilities Education Act of 2004 (IDEA) for Indian children with disabilities. Due to the COVID-19 pandemic and for the safety of all individuals, an online meeting option is provided for those who cannot attend in-person.

DATES: The BIE Advisory Board meeting will be held Thursday, January 19, 2023 from 8 a.m. to 4:30 p.m., Mountain Standard Time (MST) and Friday, January 20, 2023 from 8 a.m. to 4:30 p.m., Mountain Standard Time (MST).

ADDRESSES:

• Meeting: All Advisory Board activities and meetings will be conducted in-person and online. The onsite meeting location will be at the Hyatt Place Hotel located at 3535 W Chandler Blvd., Chandler, AZ 85226. See the SUPPLEMENTARY INFORMATION section of this notice for information on how to join the meeting.

• Comments: Public comments can be emailed to the DFO at Jennifer.davis@bie.edu; or faxed to (602) 265-0293 Attention: Jennifer Davis, DFO; or mailed or hand delivered to the Bureau of Indian Education, Attention: Jennifer Davis, DFO, 2600 N Central Ave., 12th Floor, Suite 250, Phoenix, AZ 85004.

FOR FURTHER INFORMATION CONTACT: Jennifer Davis, Designated Federal Officer, Bureau of Indian Education, 2600 N Central Ave., 12th Floor, Suite 250, Phoenix, AZ 85004, Jennifer.davis@bie.edu, or mobile phone (202) 860-7845.

Please make requests in advance for sign language interpreter services, assistive listening devices, or other reasonable accommodations at least seven (7) business days prior to the meeting to give the Department of the Interior sufficient time to process your request. All reasonable accommodation requests are managed on a case-by-case basis.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Federal Advisory Committee Act, the BIE is announcing the Advisory Board will hold its next meeting in-person and online. The Advisory Board was established under the Individuals with Disabilities Act of 2004 (20 U.S.C. 1400 et seq.) to advise the Secretary of the Interior, through the Assistant Secretary-Indian Affairs, on the needs of Indian children with disabilities. All meetings, including virtual sessions, are open to the public in their entirety.

Agenda

The following agenda items will be for the January 19, 2023 and January 20, 2023 meeting. The reports are regarding special education topics from the:

• BIE Central Office.

• BIE Associate Deputy Director regions regarding Special Education updates for Bureau Operated Schools, Navajo Schools, and Tribally Controlled Schools.

• BIE's State Performance Plan/Annual Performance Report (SPP/APR)—Indicator 8, Parent Involvement target setting.

• Haskell Indian Nations University and the Southwest Indian Polytechnic Institute—to address challenges of preparing educators for schools serving significant numbers of Native American students in Bureau funded schools.

• BIE Human Resource Department—status of current vacant educator positions and turnover as compared to last year for educator positions at the school level, and how the BIE recruits and retains personnel to fill position vacancies.

• BIE/Division of Performance and Accountability (DPA)/Special Education Program Updates.

• Four Public Commenting Sessions will be provided during both meeting days.

○ On Thursday, January 19, 2022 two sessions (15 minutes each) will be provided, 11:15 a.m. to 11:30 a.m. MST and 1 p.m. to 1:15 p.m. MST. Public comments can be provided via webinar or telephone conference call. Please use the online access codes as listed below.

○ On Friday, January 20, 2022 two sessions (15 minutes each) will be provided, 11:15 a.m. to 11:30 a.m. MST and 1 p.m. to 1:15 p.m. MST. Public comments can be provided during the meeting or telephone conference call. Please register for each meeting day to obtain the online meeting access codes as listed below.

○ Public comments can also be emailed to the DFO at Jennifer.davis@bie.edu; or faxed to (602) 265-0293 Attention: Jennifer Davis, DFO; or mailed or hand delivered to the Bureau of Indian Education, Attention: Jennifer Davis, DFO, 2600 N Central Ave., 12th Floor, Suite 250, Phoenix, Arizona 85004.

Registration

• To attend the January 19, 2023, board meeting, please register at https://www.zoomgov.com/meeting/register/vJItd-uorzwpHX0JScKwuiQ5-_fhSLVprEg.

• To attend the January 20, 2023, board meeting, please register at https://www.zoomgov.com/meeting/register/vJIsceCvqDsvGeULtmV6M2Lp47zKlRfHfRY.

Authority: 5 U.S.C. Appendix 5; 20 U.S.C. 1400 et seq.

Bryan Newland,
Assistant Secretary—Indian Affairs.

[FR Doc. 2022-27104 Filed 12-13-22; 8:45 am]

BILLING CODE 4337-15-P